SECURITIES AND EXCHANGE COMMISSION

[Release No. 34-45861A, File No. SR-MSRB-2002-04]

Self-Regulatory Organizations; Municipal Securities Rulemaking Board; Order Granting Approval of Proposed Rule Change Relating to Rule G-14, on Reports of Sales or Purchases

May 13, 2002.

Correction

In FR Document No. 02-11394, beginning on page 30989 for Wednesday, May 8, 2002, the heading is corrected as set forth above and the first sentence of the second paragraph of Section III, Discussion, on page 30990 was incorrectly stated. The sentence should read as follows:

After careful review, the Commission finds that the MSRB's proposed rule change consisting of an amendment to Rule G-14, on reports of sales and purchases, meets the statutory standard.

For the Commission, by the Division of Market Regulation, pursuant to delegated authority.¹

¹ 17 CFR 200.30-3(a)(12).

Margaret H. McFarland,
Deputy Secretary.

[FR Doc. 02-12338 Filed 5-16-02; 8:45 am]

BILLING CODE 8010-01-U